DEPARTMENT OF DEFENSE

48 CFR Part 207

[DFARS Case 2002-D036]

Defense Federal Acquisition Regulation Supplement; Buy-to-Budget Acquisition of End Items

AGENCY: Department of Defense (DoD).

ACTION: Final rule.

SUMMARY: DoD has adopted as final, without change, an interim rule amending the Defense Federal Acquisition Regulation Supplement (DFARS) to implement section 801 of the National Defense Authorization Act for Fiscal Year 2003. Section 801 authorizes DoD to acquire a higher quantity of an end item than the quantity specified in law, under certain conditions.

EFFECTIVE DATE: March 23, 2004.

FOR FURTHER INFORMATION CONTACT: Ms. Teresa Brooks, Defense Acquisition Regulations Council, OUSD(AT&L)DPAP(DAR), IMD 3C132, 3062 Defense Pentagon, Washington, DC 20301-3062. Telephone (703) 602-0326; facsimile (703) 602-0350. Please cite DFARS Case 2002-D036.

SUPPLEMENTARY INFORMATION:

A. Background

DoD published an interim rule at 68 FR 43331 on July 22, 2003. The rule added a new subpart at DFARS 207.70 to implement section 801 of the National Defense Authorization Act for Fiscal Year 2003 (Pub. L. 107-314). Section 801 added 10 U.S.C. 2308, which provides that DoD may acquire a higher quantity of an end item than the quantity specified in a law providing for the funding of the acquisition, if the agency head makes certain findings with regard to the acquisition.

DoD received no comments on the interim rule. Therefore, DoD is adopting the interim rule as a final rule without change.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq. The rule authorizes DoD to acquire a higher quantity of an end item than the quantity specified in law. However, any additional quantities must be acquired without additional funding. Acquisition of the additional quantities must be made possible through production efficiencies or other cost reductions.

C. Paperwork Reduction Act

The Paperwork Reduction Act does not apply because the rule does not impose any information collection requirements that require the approval of the Office of Management and Budget under 44 U.S.C. 3501, et seq.

List of Subjects in 48 CFR Part 207

Government procurement.

Michele P. Peterson,
Executive Editor, Defense Acquisition Regulations Council.

Interim Rule Adopted as Final Without Change

Accordingly, the interim rule amending 48 CFR Part 207, which was published at 68 FR 43331 on July 22, 2003, is adopted as a final rule without change.

[FR Doc. 04-6238 Filed 3-22-04; 8:45 am]

BILLING CODE 5001-08-P